FEDERAL ELECTION COMMISSION

Sunshine Act Meetings

AGENCY: Federal Election Commission.

DATE & TIME: Thursday, June 12, 2014 at 11:00 a.m. (or conclusion of the audit hearing).

PLACE: 999 E Street NW., Washington, DC (Ninth Floor).

STATUS: This meeting will be open to the public.

ITEMS TO BE DISCUSSED:

Correction and Approval of Minutes for April 23, 2014

Correction and Approval of Minutes for May 8, 2014

Draft Advisory Opinion 2014-04: Enterprise Holdings, Inc.

Individuals who plan to attend and require special assistance, such as sign language interpretation or other reasonable accommodations, should contact Shelley E. Garr, Acting Secretary and Clerk, at (202) 694-1040, at least 72 hours prior to the meeting date.

PERSON TO CONTACT FOR INFORMATION: Judith Ingram, Press Officer, Telephone: (202) 694-1220.

Signed:
Shelley E. Garr,
Acting Secretary and Clerk of the Commission.

[FR Doc. 2014-13507 Filed 6-5-14; 4:15 pm]

BILLING CODE 6715-01-P